Title 3—

The President

Notice of February 18, 2022

Continuation of the National Emergency Concerning the Coronavirus Disease 2019 (COVID-19) Pandemic

On March 13, 2020, by Proclamation 9994, the President declared a national emergency concerning the coronavirus disease 2019 (COVID-19) pandemic. The COVID-19 pandemic continues to cause significant risk to the public health and safety of the Nation. For this reason, the national emergency declared on March 13, 2020, and beginning March 1, 2020, must continue in effect beyond March 1, 2022. Therefore, in accordance with section 202(d) of the National Emergencies Act (50 U.S.C. 1622(d)), I am continuing the national emergency declared in Proclamation 9994 concerning the COVID-19 pandemic.

This notice shall be published in the Federal Register and transmitted to the Congress.

THE WHITE HOUSE,

February 18, 2022.

[FR Doc. 2022-03972

Filed 2-22-22; 11:15 am]

Billing code 3395-F2-P